DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2007 through October 31, 2007. The List of Restricted Joint Bidders published in the Federal Register December 5, 2006 covered the period November 1, 2006 through April 30, 2007.

Group I

Exxon Mobil Corporation

ExxonMobil Exploration Company

Group II

Shell Oil Company

Shell Offshore Inc.

SWEPI LP

Shell Frontier Oil & Gas Inc.

Shell Consolidated Energy Resources Inc.

Shell Land & Energy Company

Shell Onshore Ventures Inc.

Shell Offshore Properties and Capital II, Inc.

Shell Rocky Mountain Production LLC

Shell Gulf of Mexico Inc.

Group III

BP America Production Company

BP Exploration & Production Inc.

BP Exploration (Alaska) Inc.

Group IV

TOTAL E&P USA, Inc.

Group V

Chevron Corporation

Chevron U.S.A. Inc.

Chevron Midcontinent, L.P.

Unocal Corporation

Union Oil Company of California

Pure Partners, L.P.

Group VI

ConocoPhillips Company

ConocoPhillips Alaska, Inc

ConocoPhillips Petroleum Company

Phillips Pt. Arguello Production Company

Burlington Resources Oil & Gas Company LP

Burlington Resources Offshore Inc.

The Louisiana Land and Exploration Company

Inexeco Oil Company

Group VII

Eni Petroleum Co. Inc.

Eni Petroleum U.S. LLC

Eni Oil U.S. LLC

Eni Marketing Inc.

Eni BB Petroleum Inc.

Eni U.S. Operating Co. Inc.

Eni BB Pipeline LLC

Group VIII

Petrobras America Inc.

Dated: March 28, 2007.
R. M. “Johnnie” Burton,
Director, Minerals Management Service.

[FR Doc. E7-7220 Filed 4-16-07; 8:45 am]

BILLING CODE 4310-MR-P